DEPARTMENT OF COMMERCE

National Oceanic and Atmospheric Administration

[I.D. 030104C]

Pacific Fishery Management Council; Public Meeting

AGENCY: National Marine Fisheries Service (NMFS), National Oceanic and Atmospheric Administration (NOAA), Commerce.

ACTION: Notice of public meeting.

SUMMARY: The Pacific Fishery Management Council's (Council) Ad Hoc Groundfish Information Policy Committee (Committee) will hold a working meeting, which is open to the public.

DATES: The Committee meeting will be held Tuesday, March 23, 2004 from 8 a.m. until business for the day is completed.

ADDRESSES: The Committee meeting will be held at the Sheraton Portland Airport Hotel, 8235 NE Airport Way, Portland, OR 97220; telephone: (503) 249-7642.

Council address: Pacific Fishery Management Council, 7700 NE Ambassador Place, Suite 200, Portland, OR 97220-1384.

FOR FURTHER INFORMATION CONTACT: Dr. Ed Waters, Fishery Economics Staff Officer Coordinator; telephone: (503) 820-2280.

SUPPLEMENTARY INFORMATION: The purpose of the Committee meeting is to formulate and recommend a groundfish information management policy to the Council. The recommended policy will categorize the types of and sources of information in use for groundfish management, consider what new types of information may be available in the future, specify review requirements for new information before it can become part of the decision-making process, consider guidelines for replacing older information with new or updated information, and recommend an implementation time line that facilitates the groundfish management process while considering the magnitude of potential harm to the species of concern and disruption to the fishery that can result from untimely incorporation of new information.

No management actions will be decided by the Committee. The Committee's role will be development of recommendations for consideration by the Council at its April meeting in Sacramento, CA.

Although non-emergency issues not contained in the meeting agenda may come before the Committee for discussion, those issues may not be the subject of formal Committee action during this meeting. Committee action will be restricted to those issues specifically listed in this notice and any issues arising after publication of this notice that require emergency action under section 305(c) of the Magnuson-Stevens Fishery Conservation and Management Act, provided the public has been notified of the Committee's intent to take final action to address the emergency.

Special Accommodations

This meeting is physically accessible to people with disabilities. Requests for sign language interpretation or other auxiliary aids should be directed to Ms. Carolyn Porter at (503) 820-2280 at least 5 days prior to the meeting date.

Dated: March 2, 2004.
Peter H. Fricke,
Acting Director, Office of Sustainable Fisheries, National Marine Fisheries Service.

[FR Doc. 04-5167 Filed 3-5-04; 8:45 am]

BILLING CODE 3510-22-S